DEPARTMENT OF THE TREASURY

Submission for OMB Review; Comment Request

AGENCY: Department of the Treasury.

ACTION: Notice.

SUMMARY: The Department of the Treasury will submit the following information collection request to the Office of Management and Budget (OMB) for review and clearance in accordance with the Paperwork Reduction Act of 1995, Public Law 104-13, on or after the date of publication of this notice.

DATES: Comments should be received on or before August 31, 2015 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission may be obtained by emailing PRA@treasury.gov, calling (202) 927-5331, or viewing the entire information collection request at www.reginfo.gov.

SUPPLEMENTARY INFORMATION:

Bureau of the Fiscal Service (FS)

OMB Number: 1530-0019.

Type of Review: Extension without change of a currently approved collection.

Title: Request for Payment of Federal Benefit by Check, EFT Waiver Form.

Form: FS Form 1201W, 1201W (SP), 1201W-DFAS.

Abstract: Title 31 CFR part 208 requires that all Federal non-tax payments be made by electronic funds transfer (EFT). This form is used to collect information from individuals requesting a waiver from the EFT requirement because of a mental impairment and/or who live in a remote geographic location that does not support the use of EFT. These individuals may continue to receive payment by check; however, 31 CFR part 208 requires individuals requesting one of these waiver conditions to submit a written justification.

Affected Public: Individuals or Households.

Estimated Annual Burden Hours: 1,083.

OMB Number: 1530-0035.

Type of Review: Extension without change of a currently approved collection.

Title: Request by Fiduciary for Reissue of United States Savings Bonds.

Form: FS Form 1455.

Abstract: One or more fiduciaries (individual or corporate) must use this form to establish entitlement and request distribution of United States Treasury Securities and/or related payments to the person lawfully entitled due to termination of a trust, distribution of an estate, attainment of majority, restoration to competency, or other reason.

Affected Public: Individuals or Households.

Estimated Annual Burden Hours: 8,850.

Dated: July 27, 2015.
Dawn D. Wolfgang,
Treasury PRA Clearance Officer.

[FR Doc. 2015-18662 Filed 7-29-15; 8:45 am]

BILLING CODE 4810-AS-P